DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before August 6, 2003.

Address Comments To: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC on July 15, 2003.
R. Ryan Posten,
Exemptions Program Officer, Office of Hazardous Materials, Exemptions and Approvals.

Application No. | Docket No. | Applicant | Modification of exemption
7041-M |  | Albemarle Corporation, Baton Rouge, LA (See Footnote 1) | 7041
8723-M |  | Dyno Nobel, Inc., Salt Lake City, UT (See Footnote 2) | 8723
8815-M |  | Austin Powder Company, Cleveland, OH (See Footnote 3) | 8815
10880-M |  | Austin Powder Company, Cleveland, OH (See Footnote 4) | 10880
10996-M |  | Kosdon Enterprises, Ventura, CA (See Footnote 5) | 10996
11494-M |  | Atlantic Research Corp. (Auto Products Group), Knoxville, TN (See Footnote 6) | 11494
12122-M | RSPA-98-4313 | Atlantic Research Corp. (Auto Products Group), Knoxville, TN (See Footnote 7) | 12122
12622-M | RSPA-01-8831 | Atlantic Research Corp. (Auto. Products Group), Knoxville, TN (See Footnote 8) | 12622
12677-M | RSPA-01-9375 | Austin Powder Company, Cleveland, OH (See Footnote 9) | 12677
12698-M | RSPA-01-9652 | Integrated Environmental Services, Inc., Atlanta, GA (See Footnote 10) | 12698
¹ To modify the exemption to authorize the transportation of a Division 4.2 and 4.3 material in non-DOT specification cargo tanks.
² To modify the exemption to authorize the transportation of an additional Division 5.1 material in motor vehicles and cargo tanks.
³ To modify the exemption to authorize transportation by common or contract carrier of certain Division 1.5D explosives in a cement mixer type motor vehicle.
⁴ To modify the exemption to authorize transportation by common or contract carrier of certain Division 1.1, 1.4 and 1.5 explosive materials in dedicated loads.
⁵ To modify the exemption to authorize the transportation of a Division 1.4S material, when shipped in quantities and packagings authorized by the exemption.
⁶ To modify the exemption to authorize the transportation of a Class 9 material in a non-DOT specification cylinder (pressure vessel) for use as a component of an automobile vehicle safety system.
⁷ To modify the exemption to authorize transportation of a Class 9 material in a non-DOT specification cylinder (pressure vessel) for use as a component of an automobile vehicle safety system.
⁸ To modify the exemption to authorize the transportation of a Class 9 material by contract carrier motor vehicle without the required shipping papers and placarding.
⁹ To modify the exemption to authorize transportation by private carriage or contract carrier of certain Division 1.1, 1.4, 1.5, 5.1 and Class 8 materials.
¹⁰ To modify the exemption to authorize transportation of a Class 4 material in a non-DOT specification salvage cylinder for overpacking damaged or leaking cylinders.

[FR Doc. 03-18608 Filed 7-21-03; 8:45 am]

BILLING CODE 4910-60-M